DEPARTMENT OF LABOR

Advisory Committee on Veterans' Employment, Training and Employer Outreach (ACVETEO): Meeting

AGENCY: Veterans' Employment and Training Service (VETS), Department of Labor (DOL).

ACTION: Notice of open meeting.

SUMMARY: This notice sets forth the schedule and proposed agenda of a forthcoming meeting of the ACVETEO. The ACVETEO will discuss the DOL core programs and services that assist veterans seeking employment and raise employer awareness as to the advantages of hiring veterans. There will be an opportunity for individuals or organizations to address the committee. Any individual or organization that wishes to do so should contact Mr. Gregory Green at 202-693-4734.

Individuals who will need accommodations for a disability in order to attend the meeting (e.g., interpreting services, assistive listening devices, and/or materials in alternative format) should notify the Advisory Committee no later than Friday, July 20, 2018 by contacting Mr. Gregory Green at 202-693-4734. Requests made after this date will be reviewed, but availability of the requested accommodations cannot be guaranteed. The meeting site is accessible to individuals with disabilities. This Notice also describes the functions of the ACVETEO. Notice of this meeting is required under Section 10(a)(2) of the Federal Advisory Committee Act. This document is intended to notify the general public.

DATES: Tuesday, July 31, 2018 beginning at 9:00 a.m. and ending at approximately 4:00 p.m. (EST).

ADDRESSES: The meeting will take place at the U.S. Department of Labor, Frances Perkins Building, 200 Constitution Avenue NW, Washington, DC 20210, Conference Room N-3437 A & B. Members of the public are encouraged to arrive early to allow for security clearance into the Frances Perkins Building.

FOR FURTHER INFORMATION CONTACT: Mr. Gregory Green, Assistant Designated Federal Official for the ACVETEO, (202) 693-4734.

SUPPLEMENTARY INFORMATION: The ACVETEO is a Congressionally mandated advisory committee authorized under Title 38, U.S. Code, Section 4110 and subject to the Federal Advisory Committee Act, 5 U.S.C. App. 2, as amended. The ACVETEO is responsible for: assessing employment and training needs of veterans; determining the extent to which the programs and activities of the U.S. Department of Labor meet these needs; assisting to conduct outreach to employers seeking to hire veterans; making recommendations to the Secretary, through the Assistant Secretary for VETS, with respect to outreach activities and employment and training needs of Veterans; and carrying out such other activities necessary to make required reports and recommendations. The ACVETEO meets at least quarterly.

Security Instructions: Meeting participants should use the visitor's entrance to access the Frances Perkins Building, one block north of Constitution Avenue at 3rd and C Streets, NW. For security purposes meeting participants must:

1. Present a valid photo ID to receive a visitor badge.

2. Know the name of the event being attended: the meeting event is the Advisory Committee on Veterans' Employment, Training and Employer Outreach (ACVETEO).

3. Visitor badges are issued by the security officer at the Visitor Entrance located at 3rd and C Streets NW. When receiving a visitor badge, the security officer will retain the visitor's photo ID until the visitor badge is returned to the security desk.

4. Laptops and other electronic devices may be inspected and logged for identification purposes.

5. Due to limited parking options, Metro's Judiciary Square station is the easiest way to access the Frances Perkins Building.

Notice of Intent to Attend the Meeting: All meeting participants are being asked to submit a notice of intent to attend by Friday, July 20, 2018, via email to Mr. Gregory Green at green.gregory.b@dol.gov, subject line “July 2018 ACVETEO Meeting.”

Agenda

9:00 a.m. Welcome and remarks, Matthew M. Miller, Deputy Assistant Secretary, Veterans' Employment and Training Service

9:05 a.m. Administrative Business, Gregory Green, Assistant Designated Federal Official

9:10 a.m. Transition & Training Subcommittee Discussion/Development on annual report recommendations

10:45 a.m. Break

11:00 a.m. Barriers to Employment Subcommittee Discussion/Development on annual report recommendations

12:30 p.m. Lunch

1:30 p.m. Direct Services Subcommittee Discussion/Development on annual report recommendations

3:00 p.m. Break

3:15 p.m. Subcommittee Discussion/Assignments, Previous ACVETEO Chairman, Ryan Gallucci

3:30 p.m. Public Forum, Gregory Green, Assistant Designated Federal Official

4:00 p.m. Adjourn

Signed in Washington, DC, this 27th day of June 2018.
Matthew M. Miller,
Deputy Assistant Secretary, Veterans' Employment and Training Service.

[FR Doc. 2018-14579 Filed 7-6-18; 8:45 am]

BILLING CODE 4510-79-P